DEPARTMENT OF COMMERCE

National Oceanic and Atmospheric Administration

[I.D. 111904A]

Proposed Information Collection; Comment Request; National Marine Sanctuary Permits

AGENCY: National Oceanic and Atmospheric Administration (NOAA).

ACTION: Notice.

SUMMARY: The Department of Commerce, as part of its continuing effort to reduce paperwork and respondent burden, invites the general public and other Federal agencies to take this opportunity to comment on proposed and/or continuing information collections, as required by the Paperwork Reduction Act of 1995, Public Law 104-13 (44 U.S.C. 3506(c)(2)(A)).

DATES: Written comments must be submitted on or before January 24, 2005.

ADDRESSES: Direct all written comments to Diana Hynek, Departmental Paperwork Clearance Officer, Department of Commerce, Room 6625, 14th and Constitution Avenue, NW, Washington, DC 20230 (or via the Internet at dHynek@doc.gov).

FOR FURTHER INFORMATION CONTACT: Requests for additional information or copies of the information collection instrument and instructions should be directed to John Armor, National Marine Sanctuary Program, NOAA, 1305 East-West Highway (N/ORM6), Silver Spring, MD 20910 (or via the Internet at John.Armor@noaa.gov).

SUPPLEMENTARY INFORMATION:

I. Abstract

Persons wishing to conduct otherwise prohibited activities in a National Marine Sanctuary must apply for and receive a permit. Anyone issued permits must file reports on the activity conducted. This information is required to ensure that the proposed activity is consistent with the objectives of the sanctuary, and the reports are needed to ensure compliance with permit conditions and to increase knowledge regarding the sanctuary's resources.

II. Method of Collection

Specific requirements are detailed in various subparts of 15 CFR 922. Persons requesting a permit are sent guidelines for the application process or an application form.

III. Data

OMB Number: 0648-0141.

Form Number: None.

Type of Review: Regular submission.

Affected Public: Not-for-profit institutions; individuals or households; business or other for-profit organizations; and state, local, or tribal government.

Estimated Number of Respondents: 336.

Estimated Time Per Response: 1 hour each for a general permit application, cruise or flight log, and report; 2 hours each for a historical resource permit application, cruise log, and report; 24 hours each for a special use permit application, final report, and financial report; 15 minutes for a permit amendment; 15 minutes each for a baitfish permit application and a logbook; 15 minutes for researcher entries to a research registry; 30 minutes to request certification of a pre-existing lease, license, or permit; 1 hour each for a notification of a request for a permit from another agency, cruise or flight log, and report; and 1.5 hours for a permit appeal.

Estimated Total Annual Burden Hours: 886.

Estimated Total Annual Cost to Public: $800.

IV. Request for Comments

Comments are invited on: (a) whether the proposed collection of information is necessary for the proper performance of the functions of the agency, including whether the information shall have practical utility; (b) the accuracy of the agency's estimate of the burden (including hours and cost) of the proposed collection of information; (c) ways to enhance the quality, utility, and clarity of the information to be collected; and (d) ways to minimize the burden of the collection of information on respondents, including through the use of automated collection techniques or other forms of information technology.

Comments submitted in response to this notice will be summarized and/or included in the request for OMB approval of this information collection; they also will become a matter of public record.

Dated: November 17, 2004.
Gwellnar Banks,
Management Analyst, Office of the Chief Information Officer.

[FR Doc. 04-26058 Filed 11-23-04; 8:45 am]

BILLING CODE 3510-NK-S